DEPARTMENT OF COMMERCE

Foreign-Trade Zones Board

[S-117-2016]

Approval of Subzone Status; ASICS America Corporation; Byhalia, Mississippi

On August 16, 2016, the Executive Secretary of the Foreign-Trade Zones (FTZ) Board docketed an application submitted by the Northern Mississippi FTZ, Inc., grantee of FTZ 262, requesting subzone status subject to the existing activation limit of FTZ 262, on behalf of ASICS America Corporation in Byhalia, Mississippi.

The application was processed in accordance with the FTZ Act and Regulations, including notice in the Federal Register inviting public comment (81 FR 56582, August 22, 2016). The FTZ staff examiner reviewed the application and determined that it meets the criteria for approval.

Pursuant to the authority delegated to the FTZ Board's Executive Secretary (15 CFR Sec. 400.36(f)), the application to establish Subzone 262C is approved, subject to the FTZ Act and the Board's regulations, including Section 400.13, and further subject to FTZ 262's 680-acre activation limit.

Dated: November 8, 2016.
Andrew McGilvray,
Executive Secretary.

[FR Doc. 2016-27570 Filed 11-15-16; 8:45 am]

BILLING CODE 3510-DS-P